DEPARTMENT OF HOMELAND SECURITY

Bureau of Customs and Border Protection

Bureau of Customs and Border Protection Trade Symposium: “Globalizing Trade Security and Facilitation—Realizing the Promise of the WCO Framework”

AGENCY: Bureau of Customs and Border Protection, Homeland Security.

ACTION: Notice of trade symposium.

SUMMARY: This document announces that the Bureau of Customs and Border Protection (CBP) will convene a major trade symposium that will feature joint discussions by CBP personnel, members of the trade community, and other government agencies on the agency's role on international trade security initiatives and programs. Members of the international trade and transportation communities and other interested parties are encouraged to attend, and those attending are requested to register early.

DATES: Wednesday, November 2, 2005 (Trade Compliance Workshop—2 to 5 p.m. and Opening Reception 6-8 p.m.); Thursday, November 3, 2005 (Panels and Multi-Session Workshops 8:30-5 p.m. and Open Forum Reception with Senior Managers 5-6 p.m.); Friday, November 4, 2005 (Half-day Session (Panel Discussions 8-12 p.m.)) will be held.

ADDRESSES: The Trade Symposium will be held at the Ronald Reagan Building and International Trade Center, 1300 Pennsylvania Avenue, NW., Washington, DC.

FOR FURTHER INFORMATION CONTACT: The Office of Trade Relations at (202) 344-1440 or at traderelations@dhs.gov. ACS Client Representatives; CBP Account Managers; Regulatory Audit Trade Liaisons; or to obtain the latest information on the program or to register on-line, visit the CBP Web site at http://www.cbp.gov. Requests for special needs should also be sent to the Office of Trade Relations at traderelations@dhs.gov.

SUPPLEMENTARY INFORMATION: The keynote speaker will be announced at a later date. The cost is $235.00 per individual and includes all symposium activities. Interested parties are requested to register early, as space is limited. Registration will open to the public on or about September 23, 2005. All registrations must be made on-line at the CBP Web site (http://www.cbp.gov and must be confirmed with payment by October 7, 2005 by credit card only. The JW Marriott Hotel, 1331 Pennsylvania Avenue, NW., Washington DC, has reserved a block of rooms for Wednesday through Friday, November 2-4, 2005 at a rate of U.S. $239.00 per night. Reservations may be made directly with the hotel at (202) 393-2000 or 1-800-228-9290 and reference the “CBP Trade Symposium”.

Dated: August 17, 2005.
Michael C. Mullen,
Director, Office of Trade Relations.

[FR Doc. 05-17554 Filed 9-1-05; 8:45 am]

BILLING CODE 9110-06-P